DEPARTMENT OF TRANSPORTATION

Office of the Secretary

Notice of Applications for Certificates of Public Convenience and Necessity and Foreign Air Carrier Permits Filed Under Subpart B (Formerly Subpart Q) During the Week Ending July 28, 2006

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-25478, OST-2005-22228.

Date Filed: July 26, 2006.

Due Date for Answers, Conforming Applications, or Motion to Modify Scope:August 16, 2006.

Description: Application of Southern Air Inc. (“Southern”) requesting a certificate authorizing it to provide scheduled air transportation of property and mail between a point or points in the U.S. via intermediate points and a point or points in the Netherlands, Belgium, Finland, Denmark, Norway, Sweden, Luxembourg, Austria, Iceland, Switzerland, Czech Republic, Germany, Jordan, Singapore, Taiwan, Costa Rica, El Salvador, Guatemala, Honduras, Nicaragua, Panama, New Zealand, Brunei, Malaysia, Aruba, Chile, Uzbekistan, Korea, Peru, Netherlands Antilles, Romania, Italy, U.A.E., Pakistan, Bahrain, Argentina, Qatar, Tanzania, Dominican Republic, Portugal, Slovak Republic, Namibia, Burkina Faso, Ghana, Turkey, Gambia, Nigeria, Morocco, Rwanda, Malta, Benin, Senegal, Poland, Oman, France, Sri Lanka, Uganda, Cape Verde, Samoa, Jamaica, Tonga, Albania, Madagascar, Gabon, Indonesia, Uruguay, India, Paraguay, Maldives, Ethiopia, Thailand, Mali, Canada, Bosnia and Herzegovina, Cameroon, Chad and Australia and beyond. Southern also requests that its certificate authorize it to provide air transportation of property and mail between a point or points in Luxembourg, Iceland, Czech Republic, Germany, Singapore, El Salvador, Guatemala, Slovak Republic, Burkina Faso, Ghana, Gambia, Nigeria, Morocco, Rwanda, Malta, Benin, Senegal, Poland, Oman, France, Uganda, Cape Verde, Samoa, Tonga, Albania, Madagascar, Gabon, Indonesia, Uruguay, India, Paraguay, Maldives, Ethiopia, Thailand, Mali, Canada, Bosnia and Herzegovina, Cameroon and Chad pursuant to seventh-freedom all-cargo rights granted in open skies agreements with these countries. Southern also asks that it be awarded certificate authority between a point or points in the United States and Hong Kong and a point or points in the U.K. Finally, Southern also requests the same blanket route integration authority granted to other carriers by Order 2006-1-1.

Docket Number: OST-1995-869.

Date Filed: July 27, 2006.

Due Date for Answers, Conforming Applications, or Motion to Modify Scope: August 17, 2006.

Description: Application of Continental Micronesia, Inc. requesting renewal of its Segment 10 (Guam-Tokyo) Route 171 certificate authority to provide scheduled foreign air transportation of persons, property and mail between Guam and Tokyo, Japan.

Docket Number: OST-1996-1423.

Date Filed: July 28, 2006.

Due Date for Answers, Conforming Applications, or Motion to Modify Scope: August 18, 2006.

Description: Application of Continental Airlines, Inc. requesting renewal of Segment 13 of its Route 29-F certificate authorizing Continental to provide scheduled foreign air transportation of persons, property and mail between New York/Newark and Madrid and Barcelona. Continental also requests that its authority be amended to add the coterminal points Malaga and Palma de Mallorca, Spain.

Docket Number: OST-2006-25517.

Date Filed: July 28, 2006.

Due Date for Answers, Conforming Applications, or Motion to Modify Scope: August 18, 2006.

Description: Joint Application of Delta Air Lines, Inc. (“Delta”) and United Air Lines, Inc. (“United”) requesting that the Department approve the transfer to Delta of the route segment on United's certificate of public convenience and necessity for Route 603 authorizing foreign air transportation of persons, property and mail between New York, NY, and London, United Kingdom.

Barbara J. Hairston,
Supervisory Dockets Officer, Alternate Federal Register Liaison.

[FR Doc. E6-13099 Filed 8-9-06; 8:45 am]

BILLING CODE 4910-9X-P